DEPARTMENT OF ENERGY

Federal Energy Regulatory Commission

[Docket No. RM05-25-000]

Preventing Undue Discrimination and Preference in Transmission Services; Notice Providing for Reply Comments

November 9, 2005.

On November 1, 2005, Edison Electric Institute (EEI) filed a Motion to Provide for Filing of Reply Comments in the above-docketed proceeding. In its filing, EEI requests that the Commission provide interested parties an opportunity to file reply comments in response to the Commission's Notice of Inquiry (NOI) issued September 16, 2005, in the above-docketed proceeding. Preventing Undue Discrimination and Preference in Transmission Services, 112 FERC ¶ 61299 (2005).

By this notice, as requested by EEI, interested parties are provided an opportunity to file reply comments in response to the Commission's September 16 NOI. Reply comments should be filed on or before January 23, 2006.

Magalie R. Salas,
Secretary.

[FR Doc. E5-6345 Filed 11-16-05; 8:45 am]

BILLING CODE 6717-01-P